FEDERAL COMMUNICATIONS COMMISSION

47 CFR Part 64

[CC Docket Nos. 00-257 and 94-129; FCC 01-156]

2000 Biennial Review-Review of Policies and Rules Concerning Unauthorized Changes of Consumers Long Distance Carriers

AGENCY: Federal Communications Commission.

ACTION: Final rule; announcement of effective date.

SUMMARY: This document announces the effective date of certain carrier change authorization and verification rules adopted in the First Report and Order in CC Docket No. 00-257 and Fourth Report and Order in CC Docket No. 94-129 (Order) in our slamming proceeding. A summary of the Order was published in the Federal Register on May 22, 2001 and a correction to that summary was published in the Federal Register on June 6, 2001.

DATES: The amendments to 47 CFR 64.1120(e) published at 66 FR 28117 (May 22, 2001) become effective on June 21, 2001.

FOR FURTHER INFORMATION CONTACT: Michele Walters, Associate Chief, Accounting Policy Division, Common Carrier Bureau, (202) 418-7400.

SUPPLEMENTARY INFORMATION: In the Order, released May 15, 2001, the Commission adopted streamlined procedures to replace the burdensome waiver process for the carrier-to-carrier sale or transfer of subscriber bases. The Commission's new procedures provide for an acquiring carrier to simply self-certify to the Commission, in advance of the transfer, that the carrier will follow the required procedures. This will protect the interests of the affected subscribers by giving them adequate advance notice of the carrier change and ensuring that the change will not cause them financial harm. A summary of the Order was published in the Federal Register. 66 FR 28117 (May 22, 2001). The subject heading in the summary was corrected in a document published in the Federal Register. 66 FR 30334 (June 6, 2001). The Office of Management and Budget (OMB) approved the information collections contained in section 64.1120(e) on June 7, 2001. OMB. No. 3060-0973. The rules adopted in the Order will take effect on June 21, 2001.

Federal Communications Commission.
Magalie Roman Salas,
Secretary.

[FR Doc. 01-15563 Filed 6-20-01; 8:45 am]

BILLING CODE 6712-01-P